COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds service(s) to the Procurement List that will be furnished by nonprofit agencies employing persons who are blind or have other severe disabilities, and deletes product(s) from the Procurement List previously furnished by such agencies.

DATES: Date added to and deleted from the Procurement List: April 10, 2022.

ADDRESSES: Committee for Purchase From People Who Are Blind or Severely Disabled, 1401 S Clark Street, Suite 715, Arlington, Virginia, 22202-4149.

FOR FURTHER INFORMATION CONTACT: Michael R. Jurkowski, Telephone: (703) 785-6404, or email CMTEFedReg@AbilityOne.gov.

SUPPLEMENTARY INFORMATION:

Additions

On 7/9/2021 and 12/17/2021, the Committee for Purchase From People Who Are Blind or Severely Disabled published notice of proposed additions to the Procurement List. This notice is published pursuant to 41 U.S.C. 8503 (a)(2) and 41 CFR 51-2.3.

After consideration of the material presented to it concerning capability of qualified nonprofit agencies to provide the product(s) and service(s) and impact of the additions on the current or most recent contractors, the Committee has determined that the product(s) and service(s) listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the product(s) and service(s) to the Government.

2. The action will result in authorizing small entities to furnish the product(s) and service(s) to the Government.

3. There are no known regulatory alternatives which would accomplish the objectives of the Javits-Wagner-O'Day Act (41 U.S.C. 8501-8506) in connection with the product(s) and service(s) proposed for addition to the Procurement List.

End of Certification

Accordingly, the following service(s) are added to the Procurement List:

Service(s)

Service Type: Logistics Support Service

Mandatory for: U.S. Coast Guard, Surface Forces Logistics Center, Baltimore, MD

Designated Source of Supply: Chimes District of Columbia, Baltimore, MD

Contracting Activity: U.S. COAST GUARD, SFLC PROCUREMENT BRANCH 3(00040)

The Committee finds good cause to dispense with the 30-day delay in the effective date normally required by the Administrative Procedure Act. See 5 U.S.C. 553(d). This addition to the Committee's Procurement List is effectuated because of the expiration of the U.S. Coast Guard Surface Forces Logistics Center Integrated Logistics Support Services contract. The Federal customer contacted and has worked diligently with the AbilityOne Program to fulfill this service need under the AbilityOne Program. To avoid performance disruption, and the possibility that the U.S. Coast Guard Surface Forces Logistics Center will refer its business elsewhere, this addition must be effective on March 27, 2022, ensuring timely execution for a March 28, 2022, start date while still allowing 16 days for comment. Pursuant to its own regulation 41 CFR 51-2.4, the Committee has been in contact with one of the affected parties, the incumbent of the expiring contract, since June 2021 and determined that no severe adverse impact exists. The Committee also published a notice of proposed Procurement List addition in the Federal Register on December 17, 2021 and did not receive any comments from any interested persons, including from the incumbent contractor. This addition will not create a public hardship and has limited effect on the public at large, but, rather, will create new jobs for other affected parties—people with significant disabilities in the AbilityOne program who otherwise face challenges locating employment. Moreover, this addition will enable Federal customer operations to continue without interruption.

Service Type: Storage, Management and Fulfillment of PPE

Mandatory for: Department of Homeland Security, Departmental Operations Acquisitions Division, Washington, DC

Designated Source of Supply: LC Industries, Inc., Durham, NC

Contracting Activity: OFFICE OF PROCUREMENT OPERATIONS, DEPT OPS ACQ DIV

The Committee finds good cause to dispense with the 30-day delay in the effective date normally required by the Administrative Procedure Act. See 5 U.S.C. 553(d). This addition to the Committee's Procurement List is effectuated because of the need for the Department of Homeland Security to award a contract. The Federal customer contacted and has worked diligently with the AbilityOne Program to fulfill this service need under the AbilityOne Program. To avoid performance disruption, and the possibility that the Department of Homeland Security will refer its business elsewhere, this addition must be effective on March 27, 2022, ensuring timely execution for a March 31, start date while still allowing 16 days for comment. The Committee also published a notice of proposed Procurement List addition in the Federal Register on July 9, 2021 and did not receive any comments from any interested persons, including from the incumbent contractor. This addition will not create a public hardship and has limited effect on the public at large, but, rather, will create new jobs for other affected parties—people with significant disabilities in the AbilityOne program who otherwise face challenges locating employment. Moreover, this addition will enable Federal customer operations to continue without interruption.

Deletions

On 9/17/2021, 10/1/2021, and 10/8/20212 (83 FR), the Committee for Purchase From People Who Are Blind or Severely Disabled published notice of proposed deletions from the Procurement List. This notice is published pursuant to 41 U.S.C. 8503 (a)(2) and 41 CFR 51-2.3.

After consideration of the relevant matter presented, the Committee has determined that the product(s) and service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) and service(s) to the Government.

3. There are no known regulatory alternatives which would accomplish the objectives of the Javits-Wagner-O'Day Act (41 U.S.C. 8501-8506) in connection with the product(s) and service(s) deleted from the Procurement List.

End of Certification

Accordingly, the following product(s) and service(s) are deleted from the Procurement List:

Product(s)

NSN(s)—Product Name(s): 7510-01-600-8024—Dated 2020 12-Month 2-Sided Laminated Wall Planner, 24″ × 37″

Designated Source of Supply: Chicago Lighthouse Industries, Chicago, IL

Contracting Activity: GSA/FAS FURNITURE SYSTEMS MGT DIV, PHILADELPHIA, PA

NSN(s)—Product Name(s):

8105-LL-S05-0146—Bag, Polyethylene, Non-Asbestos Waste, 24″W × 48″L, Opaque Green with Black Printing

8105-LL-S05-0147—Bag, Polyethylene, Non-Asbestos Waste, 36″W × 48″L, Opaque Green with Black Printing

8105-LL-S05-0148—Bag, Polyethylene, Non-Asbestos Waste, 14″W × 48″L, Opaque Green with Black Printing

8105-LL-S04-7842—Bag, Polyethylene, Asbestos Waste, 24″W × 48″L, 6-10 MIL, Opaque Blue with White Printing

8105-LL-S04-7843—Bag, Polyethylene, Asbestos Waste, 36″W × 48″L, 6-10 MIL, Opaque Blue with White Printing

8105-LL-S05-0018—Bag, Polyethylene, Asbestos Waste, 12″W × 24″L, 6-10 MIL, Opaque Blue with White Printing

8105-LL-S04-8762—Bag, Polyethylene, PCB Waste, 24W″ × 10D″ × 36L″, Opaque White

8105-LL-S04-9869—Bag, Polyethylene, PCB Waste, 24W″ × 10D″ × 48L″, Opaque White

Designated Source of Supply: Open Door Center, Valley City, ND

Contracting Activity: DLA MARITIME—PUGET SOUND, BREMERTON, WA

Service(s)

Service Type: Property Management Services

Mandatory for: National Park Service, Horace M. Albright Training Center, Grand Canyon, AZ, 1 Albright Avenue, Grand Canyon, AZ

Designated Source of Supply: Trace, Inc., Boise, ID

Contracting Activity: NATIONAL PARK SERVICE, WASO WCP CONTRACTING

Michael R. Jurkowski,
Deputy Director, Business & PL Operations.

[FR Doc. 2022-05224 Filed 3-10-22; 8:45 am]

BILLING CODE 6353-01-P